DEPARTMENT OF TRANSPORTATION

Federal Highway Administration

[Docket No. FHWA 2006-26090]

Agency Information Collection Activities: Request for Comments; Renewed Approval of Information Collection; State Right-of-Way Operations Manuals, OMB Control Number: 2125-0586

AGENCY: Federal Highway Administration (FHWA), DOT.

ACTION: Notice and request for comments.

SUMMARY: The FHWA invites public comments about our intention to request the Office of Management and Budget's (OMB) approval to renew an information collection, which is summarized below under SUPPLEMENTARY INFORMATION. The collection involves State Departments of Transportation (STD) providing their Right-of-Way Operations Manuals to FHWA. The information to be collected will be used to certify that the manuals are representative of the States right-of-way procedures and the information is necessary to comply with 23 Code of Federal Regulations Part 710.201(c). We are required to publish this notice in the Federal Register by the Paperwork Reduction Act of 1995.

DATES: Please submit comments by January 8, 2007.

ADDRESSES: You may submit comments identified by DOT DMS Docket Number FHWA-2006-26090 to the Docket Clerk, by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC, 20590-0001.

• Hand Delivery: Room PL-401 on the plaza level of the Nassif Building, 400 Seventh Street, SW., Washington, DC, between 9 a.m. and 5 p.m., Monday through Friday, except Federal holidays.

Docket: For access to the docket to read background documents or comments received go to http://dms.dot.gov at any time or to Room 401 on the plaza level of the Nassif Building, 400 Seventh Street, SW., Washington, DC, between 9 a.m. and 5 p.m., Monday through Friday, except Federal holidays.

FOR FURTHER INFORMATION CONTACT: David Walterscheid, (720) 963-3073, Office of Real Estate Services, Federal Highway Administration, Department of Transportation, 400 Seventh Street, SW., Washington, DC, 20590. Office hours are from 7:30 a.m. to 4 p.m., Monday through Friday, except Federal holidays.

SUPPLEMENTARY INFORMATION: Title: State Right-of-Way Operations Manuals.

OMB Control Number: 2125-0586.

Background: Section 23, of the Code of Federal Regulations Part 710, reduces Federal regulatory requirements and places primary responsibility for a number of approval actions at the State level. Part 710.201 requires that States must certify at 5-year intervals that their State Right-of-Way Operations Manuals are representative of their procedures, or submit an updated manual. STDs are required to update their manuals to reflect changes in Federal requirements for programs administered under Title 23 U.S.C. These manuals reflect how the STD plans to perform real estate acquisition and property management, and maintain the integrity of the right-of-way for highway and related transportation systems. The State manuals may be submitted to FHWA electronically or they can be made available by postings on State Web sites.

Respondents: 50 State Departments of Transportation, the District of Columbia and Puerto Rico.

Frequency: The States update their operations manuals for review annually.

Estimated Average Burden per Response: 75 hours per respondent.

Estimated Total Annual Burden Hours: The total is 3,900 burden hours annually.

Public Comments Invited: You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: November 1, 2006.
James R. Kabel,
Chief, Management Programs and Analysis Division.

[FR Doc. E6-18700 Filed 11-6-06; 8:45 am]

BILLING CODE 4910-13-P